DEPARTMENT OF LABOR

Employment Standards Administration

Office of Workers' Compensation Programs, Information Collection; OMB Approval, Energy Employees Occupational Illness Compensation Program Act Forms (Various)

ACTION: Notice of OMB approval under the Paperwork Reduction Act.

SUMMARY: The Office of Management and Budget (OMB) has approved, under the Paperwork Reduction Act, a collection of information under the Energy Employees Occupational Illness Compensation Program Act (EEOICPA or Act).

FOR FURTHER INFORMATION CONTACT: Shelby Hallmark, Director, Office of Workers' Compensation Programs, Employment Standards Administration, U.S. Department of Labor, Room S-3524, 200 Constitution Ave., NW., Washington, DC 20210, (202) 693-0031.

SUPPLEMENTARY INFORMATION: On May 25, 2001, the Employment Standards Administration, Office of Workers' Compensation Programs, published an interim final rule governing the administration of the EEOICPA, and requested OMB approval under the Paperwork Reduction Act of an information collection consisting of 9 forms/reporting requirements under the Act. The forms/reporting requirements are: EE-1, Claim for Benefits Under Energy Employees Occupational Illness Compensation Program Act; EE-2, Claim for Survivor Benefits Under Energy Employees Occupational Illness Compensation Program Act; EE-3, Employment History for Claim Under Energy Employees Occupational Illness Compensation Program Act; EE-4, Employment History Affidavit for Claim Under the Energy Employees Occupational Illness Compensation Program Act; EE-7, Medical Requirements Under the Energy Employees Occupational Illness Compensation Program Act; EE-15/EN-15, letter to claimant requesting information on approved claims concerning possible tort suits, third party settlements, other eligible survivors, fraud convictions, and corrections; EE-20/EN-20, Acceptance of Payment Under the Energy Employees Occupational Illness Compensation Program Act; EE-915, Claim for Medical Reimbursement Under the Energy Employees Occupational Illness Compensation Program Act; and 20 CFR 30.214, a medical report required when an injury, illness or disability is sustained as a consequence of cancer.

OMB has approved the information collection request for three years. The OMB control number assigned to this information collection is 1215-0197, and the expiration date is 7/31/2004.

Dated: August 1, 2001.
Shelby Hallmark,
Director, Office of Workers' Compensation Programs, Employment Standards Administration, Department of Labor.

[FR Doc. 01-19949 Filed 8-8-01; 8:45 am]

BILLING CODE 4510-CH-P